INTERNATIONAL TRADE COMMISSION

[Investigation No. 731-TA-385 (Third Review)]

Granular Polytetrafluoroethylene Resin From Italy; Correction of Notice of Scheduling

AGENCY: United States International Trade Commission.

ACTION: Notice.

SUMMARY: In a notice published in the Federal Register May 12, 2011 (76 FR 27663), the Commission published a notice of scheduling of an expedited five-year review on an antidumping duty order on granular polytetrafluoroethylene resin from Italy.

CORRECTION: The Commission hereby corrects the investigation number to Inv. No. 731-TA-385 (Third Review), and footnote 2 that replaces IDENTIFY with E.I. DuPont de Nemours & Co.

DATES: Effective Date: May 13, 2011.

FOR FURTHER INFORMATION CONTACT: Stefania Pozzi Porter (202-205-3177; Stefania.PozziPorter@usitc.gov), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this review may be viewed on the Commission's electronic docket (EDIS) at http://edis.usitc.gov.

Authority: This review is being conducted under authority of title VII of the Tariff Act of 1930; this notice is published pursuant to section 207.62 of the Commission's rules.

By order of the Commission.
Issued: May 13, 2011.
James R. Holbein,
Acting Secretary to the Commission.

[FR Doc. 2011-12277 Filed 5-18-11; 8:45 am]

BILLING CODE P